DEPARTMENT OF HEALTH AND HUMAN SERVICES

Food and Drug Administration

21 CFR Part 73

[Docket No. 97C-0415]

Listing of Color Additives Exempt From Certification; Luminescent Zinc Sulfide

Correction

In rule document 00-19952, beginning on page 48375, in the issue of Tuesday, August 8, 2000, make the following correction:

On page 48375, in the third column, under the heading, FOR FURTHER INFORMATION CONTACT:, in the first line, “Aydin O—AE4rstan” should read “Aydin Örstan”.

[FR Doc. C0-19952 Filed 10-6-00; 8:45 am]

BILLING CODE 1505-01-D